DEPARTMENT OF LABOR

Occupational Safety and Health Administration

[Docket No. OSHA-2023-0013]

Element Materials Technology Portland—Evergreen Inc.: Grant of Expansion of Recognition

AGENCY: Occupational Safety and Health Administration (OSHA), Labor.

ACTION: Notice.

SUMMARY: In this notice, OSHA announces the final decision to expand the scope of recognition for Element Materials Technology Portland—Evergreen Inc., as a Nationally Recognized Testing Laboratory (NRTL).

DATES: The expansion of the scope of recognition becomes effective on February 3, 2026.

FOR FURTHER INFORMATION CONTACT: Information regarding this notice is available from the following sources:

Press inquiries: Contact Mr. Frank Meilinger, Director, OSHA Office of Communications, U.S. Department of Labor; telephone: (202) 693-1999; email: meilinger.francis2@dol.gov.

General and technical information: Contact Mr. Kevin Robinson, Director, Office of Technical Programs and Coordination Activities, Directorate of Technical Support and Emergency Management, Occupational Safety and Health Administration, U.S. Department of Labor; telephone: (202) 693-1911; email: robinson.kevin@dol.gov. OSHA's web page includes information about the NRTL Program (see http://www.osha.gov/dts/otpca/nrtl/index.html).

SUPPLEMENTARY INFORMATION:

I. Notice of the Final Decision

OSHA hereby gives notice of the expansion of the scope of recognition of Element Materials Technology Portland—Evergreen Inc. (EMT), as a NRTL. EMT's expansion covers the addition of ten testing standards and one testing site to the NRTL scope of recognition.

OSHA recognition of a NRTL signifies that the organization meets the requirements specified in 29 CFR 1910.7. Recognition is an acknowledgment that the organization can perform independent safety testing and certification of the specific products covered within the scope of recognition. Each NRTL's scope of recognition includes: (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides a final decision on the application. These notices set forth the NRTL's scope of recognition or modifications of that scope. OSHA maintains an informational web page for each NRTL, including EMT, which details the NRTL's scope of recognition. These pages are available from the OSHA website at http://www.osha.gov/dts/otpca/nrtl/index.html.

EMT submitted an application to OSHA for expansion of the NRTL scope of recognition. The application, dated November 7, 2024 (OSHA-2023-0013-0005), requested the expansion of the NRTL scope of recognition to include one additional test site located at: Pendle Place, Pimbo Industrial Estate, Skelmersdale, WN8 9PN, United Kingdom and seven additional test standards. That application was updated on February 5, 2025 (OSHA-2023-0013-0006) to add two standards to the original submission and again on March 11, 2025 (OSHA-2023-0023-0007) to add one additional standard to the original submission. In total, the expansion applications requested the addition of ten standards and one site to the NRTL scope of recognition. OSHA staff performed an on-site assessment of EMT's testing facilities at Element Materials Technology Skelmersdale on March 6-7, 2025, in which assessors found some nonconformances with the requirements of 29 CFR 1910.7. EMT has addressed these issues sufficiently, and OSHA staff preliminarily determined that OSHA should grant the applications.

OSHA published a Federal Register notice on November 18, 2025 (90 FR 51795) announcing EMT's applications, preliminarily determining that OSHA should grant the applications and soliciting public comment. The agency requested comments by December 3, 2025, however no comments were received in response to this notice. OSHA is now proceeding with this expansion of EMT's NRTL scope of recognition.

To obtain or review copies of all public documents pertaining to the EMT expansion applications, go to www.regulations/gov or contact the Docket Office at (202) 693-2350 (TTY (877) 889-5627. Docket No. OSHA-2023-0013 contains all materials in the record concerning EMT's recognition.

II. Final Decision and Order

OSHA staff examined EMT's expansion applications, conducted a detailed on-site assessment, and examined other pertinent information. Based on review of this evidence, OSHA finds that EMT meets the requirements of 29 CFR 1910.7 for expansion of recognition, subject to the specified limitations and conditions. OSHA, therefore, is proceeding with this final notice to grant expansion of EMT's scope of recognition. OSHA limits the expansion of EMT's recognition to include the additional testing site in Skelmersdale, United Kingdom and ten additional test standards. OSHA's recognition of the site limits EMT to performing product testing and certifications only to the test standards for which the site has the proper capability and programs, and for test standards in EMT's scope of recognition. This limitation is consistent with the recognition that OSHA grants to other NRTLs that operate multiple sites. Additionally, OSHA grants EMT expansion of the NRTL scope of recognition to include the additional test standards listed below in Table 1 below.

Table 1 Appropriate Test Standards for Inclusion in EMT's NRTL Scope of Recognition
Test standard | Test standard title
NFPA 496 | Purged and Pressurized Enclosures for Electrical Equipment.
UL 508A | Industrial Control Panels.
UL 913 | Intrinsically Safe Apparatus and Associated Apparatus for Use in Class I, II, and III, Division I, Hazardous (Classified) Locations.
UL 1203 | Explosion-Proof and Dust-Ignition-Proof Electrical Equipment for Use in Hazardous (Classified) Locations.
UL 121201 | Nonincendive Electrical Equipment for Use in Class I and II, Division 2 and Class III, Divisions 1 and 2 Hazardous (Classified) Locations.
UL 60079-0 | Explosive Atmospheres—Part 0: Equipment—General Requirements.
UL 60079-7 | Explosive Atmospheres—Part 7: Equipment Protection by Increased Safety “e“.
UL 60079-11 | Explosive Atmospheres—Part 11: Equipment Protection by Intrinsic Safety “i“.
UL 60079-1 | Explosive Atmospheres—Part 1: Equipment Protection by Flameproof Enclosures “d“.
UL 60079-2 | Explosive Atmospheres—Part 2: Protection by Pressurized Enclosures “p“.

A. Conditions

Recognition is contingent on continued compliance with 29 CFR 1910.7, including but not limited to the following conditions of recognition:

1. EMT must inform OSHA as soon as possible, in writing, of any change of ownership, facilities, or key personnel, and of any major change in its operations as a NRTL, and provide details of the change(s);

2. EMT must meet all the terms of its recognition and comply with all OSHA policies pertaining to this recognition; and

3. EMT must continue to meet the requirements for recognition, including all previously published conditions on EMT's scope of recognition, in all areas for which it has recognition.

Pursuant to the authority in 29 CFR 1910.7, OSHA hereby expands the scope of recognition of EMT as a NRTL, subject to the limitations and conditions specified above.

III. Authority and Signature

Amanda Laihow, Principal Deputy Assistant Secretary of Labor for Occupational Safety and Health, 200 Constitution Avenue NW, Washington, DC 20210, authorized the preparation of this notice. Accordingly, the agency is issuing this notice pursuant to 29 U.S.C. 657(g)(2), Secretary of Labor's Order No. 7-2027 (90 FR 27878; June 30, 2025), and 29 CFR 1910.7.

Signed at Washington, DC, on January 27, 2026.
Amanda Laihow,
Principal Deputy Assistant Secretary of Labor for Occupational Safety and Health.

[FR Doc. 2026-02154 Filed 2-2-26; 8:45 am]

BILLING CODE 4510-26-P